DEPARTMENT OF DEFENSE

Office of the Secretary

[Docket ID: DoD-2023-OS-0042]

Proposed Collection; Comment Request

AGENCY: Office of the Under Secretary of Defense for Personnel and Readiness (OUSD(P&R)), Department of Defense (DoD).

ACTION: 60-Day information collection notice.

SUMMARY: In compliance with the Paperwork Reduction Act of 1995, the Employer Support for the Guard and Reserve announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 10, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Employer Support for the Guard and Reserve, 4800 Mark Center Drive, Suite 05E22, Alexandria, VA 22350-4000, Tara E. Stewart, (571) 372-0686, tara.e.stewart.civ@mail.mil.

SUPPLEMENTARY INFORMATION:

Title; Associated Form; and OMB Number: Uniformed Services Employment and Reemployment Rights Act (USERRA) Inquiry and Support Request; DD Forms 3021 and 3022; OMB Control Number 0704-ERRA.

Needs and Uses: These forms are intended for those who are experiencing civilian employment problems related to military obligations. To record information related to the mediation of disputes and answering of inquiries related to the USERRA; by tracking case assignments and mediation results of potential conflicts between employers and the National Guard, Reserves, or National Disaster Medical Service (NDMS) members they employ; and by reporting statistics related to the ESGR Ombudsman Program in aggregate and at the state committee-level. These records are also used as a management tool for statistical analysis, tracking, reporting, evaluating program effectiveness and conducting research. Service members will request ESGR assistance as related to their rights and responsibilities pursuant to USERRA. This electronic form is to be submitted through the www.ESGR.mil website, https://www.esgr.mil/USERRA/USERRA-Contact/USERRA-Support-Request/t/1.

Affected Public: Individuals or households.

Annual Burden Hours: 154.75.

Number of Respondents:

DD Form 3021: 977.

DD Form 3022: 880.

Total: 1,857.

Responses per Respondent: 1.

Annual Responses: 1,857.

Average Burden per Response: 5 minutes.

Frequency: On Occasion.

This information collection obtains contact information, ESGR awareness, and the respondent's question(s) about the program to assist in answering the public's questions related to USERRA. ESGR provides Ombudsmen to mediate uniformed service-related disputes between service members and their civilian employers. The information collected serves to support the ESGR Ombudsman Program by tracking assistance provided to members of the Uniformed Services, and is to include the National Disaster Medical System by recording information related to answering inquiries related to the USERRA and by reporting statistics related to the Ombudsman Program in aggregate and at State committee level.

Dated: May 5, 2023.
Aaron T. Siegel,
Alternate OSD Federal Register Liaison Officer, Department of Defense.

[FR Doc. 2023-09928 Filed 5-9-23; 8:45 am]

BILLING CODE 5001-06-P